NATIONAL TRANSPORTATION SAFETY BOARD

Sunshine Act Meeting

Time and Date: 9:30 a.m., Tuesday, September 1, 2009.

Place: NTSB Conference Center, 429 L'Enfant Plaza SW., Washington, DC 20594.

Status: The two items are open to the public.

Matters To Be Considered

4402G—Four Safety Recommendation Letters Concerning Helicopter Emergency Medical Services (HEMS).

8141—Highway Special Investigation Report—Pedal Misapplication in Heavy Vehicles.

News Media Contact: Telephone: (202) 314-6100.

The press and public may enter the NTSB Conference Center one hour prior to the meeting for set up and seating.

Individuals requesting specific accommodations should contact Rochelle Hall at (202) 314-6305 by Friday, August 28, 2009.

The public may view the meeting via a live or archived webcast by accessing a link under “News & Events” on the NTSB home page at http://www.ntsb.gov.

FOR FURTHER INFORMATION CONTACT: Vicky D'Onofrio, (202) 314-6410.

Dated: August 14, 2009.
Vicky D'Onofrio,
Federal Register Liaison Officer.

[FR Doc. E9-19900 Filed 8-14-09; 4:15 pm]

BILLING CODE 7533-01-P